ENVIRONMENTAL PROTECTION AGENCY

40 CFR Part 52

[EPA-R01-OAR-2024-0255; FRL-12071-01-R1]

Air Plan Approval; New Hampshire; Ambient Air Quality Standards

AGENCY: Environmental Protection Agency (EPA).

ACTION: Proposed rule.

SUMMARY: The Environmental Protection Agency (EPA) is proposing to approve most of a State Implementation Plan (SIP) revision submitted by the State of New Hampshire. This revision updates the State regulation containing ambient air quality standards. EPA is proposing to approve all the State's updated standards, except the primary annual fine particle (PM2.5) standard, which we propose to conditionally approve because it does not match EPA's current National Ambient Air Quality Standard for PM2.5. This action is being taken under the Clean Air Act (CAA).

DATES: Written comments must be received on or before August 12, 2024.

ADDRESSES: Submit your comments, identified by Docket ID No. EPA-R01-OAR-2024-0255 at https://www.regulations.gov, or via email to Alison Simcox at: simcox.alison@epa.gov. For comments submitted at Regulations.gov, follow the online instructions for submitting comments. Once submitted, comments cannot be edited or removed from Regulations.gov. For either manner of submission, the EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). For additional submission methods, please contact the person identified in the FOR FURTHER INFORMATION CONTACT section. For the full EPA public comment policy, information about CBI or multimedia submissions, and general guidance on making effective comments, please visit https://www.epa.gov/dockets/commenting-epa-dockets. Publicly available docket materials are available at https://www.regulations.gov or at the U.S. Environmental Protection Agency, EPA Region 1 Regional Office, Air and Radiation Division, 5 Post Office Square—Suite 100, Boston, MA. EPA requests that, if at all possible, you contact the contact listed in the FOR FURTHER INFORMATION CONTACT section to schedule your inspection. The Regional Office's official hours of business are Monday through Friday, 8:30 a.m. to 4:30 p.m., excluding legal holidays.

FOR FURTHER INFORMATION CONTACT: Alison C. Simcox, Air Quality Branch, Air and Radiation Division (Mail Code 5-MD), U.S. Environmental Protection Agency, Region 1, 5 Post Office Square, Suite 100, Boston, Massachusetts 02109-3912, telephone number: (617) 918-1684; email address: simcox.alison@epa.gov.

SUPPLEMENTARY INFORMATION: Throughout this document whenever “we,” “us,” or “our” is used, we mean EPA.

Table of Contents

I. Background and Purpose

II. Evaluation of New Hampshire's Submittal

III. Proposed Action

IV. Incorporation by Reference

V. Statutory and Executive Order Reviews

I. Background and Purpose

On December 22, 2022, New Hampshire Department of Environmental Services (NH DES) submitted to EPA a SIP revision updating its Env-A 300, “Ambient Air Quality Standards”. The State revised this regulation to incorporate into its SIP revised National Ambient Air Quality Standards (NAAQS).

In its December 2022 SIP submittal, NH DES adopted the following:

(1) Coarse fine particle (PM10) primary (health-based) and secondary (welfare-based) 24-hour standards of 150 micrograms per cubic meter (μg/m³),

(2) Fine particle (PM2.5) primary annual standard of 12 μg/m³,

(3) PM2.5 secondary annual standard of 15 μg/m³,

(4) PM2.5 primary and secondary 24-hour standards of 35 μg/m³,

(5) Sulfur dioxide (SO2) primary 1-hour standard of 75 parts per billion (ppb),

(6) SO2 secondary 3-hour standard of 0.5 parts per million (ppm),

(7) CO primary 8-hour standard of 9 ppm,

(8) CO primary 1-hour standard of 35 ppm,

(9) Nitrogen Dioxide (NO2) primary annual of 53 ppb,

(10) NO2 primary 1-hour standard of 100 ppb,

(11) NO2 secondary annual standard of 0.053 ppm (equivalent to 100 μg/m³),

(12) Ozone primary and secondary 8-hour standard of 0.070 ppm,

(13) Lead primary and secondary rolling 3-month standard of 0.15 μg/m³.

New Hampshire's Env-A 300, “Ambient Air Quality Standards,” was originally approved into the New Hampshire SIP on March 15, 1983 (48 FR 10830). Updates to the rule were approved into the New Hampshire SIP on August 19, 1994 (59 FR 42766) and on June 24, 2014 (79 FR 35695).

II. Evaluation of New Hampshire's Submittal

EPA has reviewed New Hampshire's revised Env-A 300 and has determined that it is consistent with the NAAQS in 40 CFR part 50 for all standards except the PM2.5 primary annual standard. On March 6, 2024, EPA strengthened the PM2.5 primary annual standard to 9.0 μg/m³ (89 FR 16202).

Pursuant to a May 16, 2024, letter to EPA from NH DES, within a year from the effective date of EPA's conditional approval of the December 2022 submittal, the State commits to submitting a revision to Env-A 300 that includes the current primary annual standard for the PM2.5 NAAQS. Therefore, EPA proposes to approve all of New Hampshire's revised rule, except for the primary annual PM2.5 standard, which we propose to conditionally approve.

III. Proposed Action

EPA proposes to approve most of New Hampshire's revised Env-A 300, “Ambient Air Quality Standards,” submitted by the State on December 22, 2022, as a revision to the New Hampshire SIP. We propose to conditionally approve the primary annual PM2.5 standard, provided that the State submits in a timely manner the portion of Env-A 300 that includes the current EPA PM2.5 primary annual NAAQS of 9.0 μg/m³.

EPA is soliciting public comments on the issues discussed in this proposal or on other relevant matters. These comments will be considered before EPA takes final action. Interested parties may participate in the Federal rulemaking procedure by submitting comments to this proposed rule by following the instructions listed in the ADDRESSES section of this Federal Register.

Under section 110(k)(4) of the Act, EPA may conditionally approve a plan based on a commitment from the State to adopt specific enforceable measures by a date certain, but not later than 1 year from the date of approval. If EPA conditionally approves the commitment in a final rulemaking action, the State must meet its commitment to submit a revision to Env-A 300 that includes the current PM2.5 primary annual NAAQS. If the State fails to do so, this action will become a disapproval one year from the date of final approval. EPA will notify the State by letter that this action has occurred. At that time, this commitment will no longer be a part of the approved New Hampshire SIP. EPA subsequently will publish a document in the Federal Register notifying the public that the conditional approval automatically converted to a disapproval. If the State meets its commitment, within the applicable time frame, the conditionally approved submission will remain a part of the SIP until EPA takes final action approving or disapproving the new legislative authority. If EPA disapproves the new submittal, the conditionally approved regulation will also be disapproved at that time. If EPA approves the submittal, the regulation will be fully approved in its entirety and replace the conditionally approved program in the SIP.

IV. Incorporation by Reference

In this document, the EPA is proposing to include in a final EPA rule regulatory text that includes incorporation by reference. In accordance with requirements of 1 CFR 51.5, the EPA is proposing to incorporate by reference New Hampshire's regulation Env-A 300, as discussed in Sections I and II of this preamble. The EPA has made, and will continue to make, these documents generally available through https://www.regulations.gov and at the EPA Region 1 Office (please contact the person identified in the FOR FURTHER INFORMATION CONTACT section of this preamble for more information).

V. Statutory and Executive Order Reviews

Under the CAA, the Administrator is required to approve a SIP submission that complies with the provisions of the Act and applicable Federal regulations. See 42 U.S.C. 7410(k); 40 CFR 52.02(a). Thus, in reviewing SIP submissions, EPA's role is to approve State choices, provided that they meet the criteria of the CAA. Accordingly, this proposed action merely approves state law as meeting Federal requirements and does not impose additional requirements beyond those imposed by State law. For that reason, this proposed action:

• Is not a significant regulatory action subject to review by the Office of Management and Budget under Executive Orders 12866 (58 FR 51735, October 4, 1993) and 13563 (76 FR 3821, January 21, 2011);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001); and

• Is not subject to requirements of section 12(d) of the National Technology Transfer and Advancement Act of 1995 (15 U.S.C. 272 note) because application of those requirements would be inconsistent with the CAA.

In addition, the SIP is not approved to apply on any Indian reservation land or in any other area where EPA or an Indian tribe has demonstrated that a tribe has jurisdiction. In those areas of Indian country, the rule does not have tribal implications and will not impose substantial direct costs on tribal governments or preempt tribal law as specified by Executive Order 13175 (65 FR 67249, November 9, 2000).

Executive Order 12898 (Federal Actions To Address Environmental Justice in Minority Populations and Low-Income Populations, 59 FR 7629, Feb. 16, 1994) directs Federal agencies to identify and address “disproportionately high and adverse human health or environmental effects” of their actions on minority populations and low-income populations to the greatest extent practicable and permitted by law. EPA defines environmental justice (EJ) as “the fair treatment and meaningful involvement of all people regardless of race, color, national origin, or income with respect to the development, implementation, and enforcement of environmental laws, regulations, and policies.” EPA further defines the term fair treatment to mean that “no group of people should bear a disproportionate burden of environmental harms and risks, including those resulting from the negative environmental consequences of industrial, governmental, and commercial operations or programs and policies.”

NH DES did not evaluate environmental justice considerations as part of its SIP submittal; the CAA and applicable implementing regulations neither prohibit nor require such an evaluation. EPA did not perform an EJ analysis and did not consider EJ in this action. Due to the nature of the action being taken here, this action is expected to have a neutral to positive impact on the air quality of the affected area. Consideration of EJ is not required as part of this action, and there is no information in the record inconsistent with the stated goal of E.O. 12898 of achieving environmental justice for people of color, low-income populations, and Indigenous peoples.

List of Subjects in 40 CFR Part 52

Environmental protection, Air pollution control, Carbon monoxide, Incorporation by reference, Intergovernmental relations, Lead, Nitrogen dioxide, Ozone, Particulate matter, Reporting and recordkeeping requirements, Sulfur oxides, Volatile organic compounds.

Dated: July 2, 2024.
David Cash,
Regional Administrator, EPA Region 1.

[FR Doc. 2024-14990 Filed 7-10-24; 8:45 am]

BILLING CODE 6560-50-P